DEPARTMENT OF LABOR

Employment and Training Administration

Notice of Funding Opportunity and Solicitation for Grant Applications (SGA) for the Career Pathways Innovation Fund Grants Program

AGENCY: Employment and Training Administration, Labor.

ACTION: Notice of Solicitation for Grant Applications (SGA).

Funding Opportunity Number: SGA/DFA PY 10-06.

SUMMARY: Through this notice, the Department of Labor's Employment and Training Administration (ETA) announces the availability of up to approximately $122 million in grant funds authorized by Workforce Investment Act of 1998, Public Law 105-220 to develop and implement career pathway programs in partnership with employers and other relevant organizations in the community. The overarching goals for projects funded under this SGA are to: (1) Increase the number of individuals who earn credentials that enable them to compete for employment in in-demand and emerging industries and occupations; (2) lead to employment for program participants; (3) articulate and ease academic and employment transitions, through the implementation of articulation agreements and other activities, for students of different skill levels and at varying academic levels, including students with low English or basic skills proficiency; (4) establish multiple entry and exit points for students along the post-secondary education continuum; and, (5) create systemic change that will last beyond the grant period by establishing partnerships, agreements, processes, and programs that better connect the education, training, workforce, and supportive services necessary to achieve the preceding four goals, including strengthening the role of the public workforce system in career pathway programs. ETA proposes to fund approximately 40 to 50 grants ranging from $1 million to $5 million. Based on statutory requirements, at least $65 million of the total designated funds will be reserved for projects that focus on the health care sector. In addition, DOL intends to reserve funding of approximately $6.25 million of the total appropriation to award additional funding to support grantee efforts to conduct a third-party evaluation of the grant activities with this SGA.

The complete SGA and any subsequent SGA amendments, in connection with the Workforce Investment Act of 1998, Public Law 105-220 is described in further detail on ETA's Web site at http://www.doleta.gov or on http://www.grants.gov. The Web sites provide application information, eligibility requirements, review and selection procedures and other program requirements governing this solicitation.

DATES: The closing date for receipt of applications is March 31, 2011.

FOR FURTHER INFORMATION CONTACT: Linda Forman, 200 Constitution Avenue, NW., Room N4716, Washington, DC 20210; telephone: 202-693-3416.

Signed at Washington, DC, this 23rd day of February, 2011.
Donna Kelly,
Grant Officer, Employment and Training Administration.

[FR Doc. 2011-4407 Filed 2-28-11; 8:45 am]

BILLING CODE 4510-FN-P